DEPARTMENT OF VETERANS AFFAIRS

[OMB Control No. 2900-0422]

Agency Information Collection Activity Under OMB Review: VA Acquisition Regulation (VAAR) Construction Provisions and Clauses

AGENCY: Office of Acquisition and Logistics, Department of Veterans Affairs.

ACTION: Notice.

SUMMARY: In compliance with the Paperwork Reduction Act (PRA) of 1995, this notice announces that the Office of Acquisition and Logistics (OAL), Department of Veterans Affairs, will submit the collection of information abstracted below to the Office of Management and Budget (OMB) for review and comment. The PRA submission describes the nature of the information collection and its expected cost and burden and includes the actual data collection instrument.

DATES: Written comments and recommendations for the proposed information collection should be sent within 30 days of publication of this notice to www.reginfo.gov/public/do/PRAMain. Find this particular information collection by selecting “Currently under Review—Open for Public Comments” or by using the search function. Refer to “OMB Control No. 2900-0422.”

FOR FURTHER INFORMATION CONTACT: Maribel Aponte, Office of Enterprise and Integration, Data Governance Analytics (008), 810 Vermont Ave., Washington, DC 20006, (202) 266-4688 or email maribel.aponte@va.gov. Please refer to “OMB Control No. 2900-0422” in any correspondence.

SUPPLEMENTARY INFORMATION:

Authority: Public Law 104-13; 44 U.S.C. 3501-3521.

Title: VA Acquisition Regulation (VAAR) Construction Provisions and Clauses.

OMB Control Number: 2900-0422.

Type of Review: Extension of a currently approved collection.

Abstract: This Paperwork Reduction Act (PRA) submission seeks renewal without changes of Office of Management and Budget (OMB) approval No. 2900-0422 for five collections of information for the Department of Veterans Affairs Acquisition Regulation (VAAR) clauses, as follows:

• Clause 852.232-70, Payment Under Fixed-Price Construction Contracts (without NAS-CPM), requires construction contractors, without NAS-CPM, to submit a schedule of costs for work to be performed under the contract.

• Clause 852.232-71, Payment Under Fixed-Price Construction Contracts (including NAS-CPM), requires construction contractors, including NAS-CPM, to submit a schedule of costs for work to be performed under the contract.

• Clause 852.236-72, Performance of Work by the Contractor, requires contractors awarded a construction contract containing Federal Acquisition Regulation (FAR) clause 52.236-1, Performance of Work by the Contractor, to submit a statement designating the branch or branches of contract work to be performed by the contractor's own forces.

• Clause 852.236-80, Subcontracts and Work Coordination, requires construction contractors, on contracts involving complex mechanical-electrical work, to furnish coordination drawings showing the manner in which utility lines will fit into available space and relate to each other and to the existing building elements.

• Clause 852.243-70, Construction Contract Changes-Supplement, requires contractors to submit cost proposals for changes ordered by the contracting officer or for changes proposed by the contractor.

An agency may not conduct or sponsor, and a person is not required to respond to a collection of information unless it displays a currently valid OMB control number. The Federal Register Notice with a 60-day comment period soliciting comments on this collection of information was published at 87 FR 45853 on July 29, 2022, page 45853.

Affected Public: Business or other for profit.

Estimated Annual Burden: 2,974 hours.

Estimated Average Burden per Respondent: 105 minutes.

Frequency of Response: More than quarterly.

Estimated Number of Respondents: 1,706.

By direction of the Secretary.
Maribel Aponte,
VA PRA Clearance Officer, Office of Enterprise and Integration, Data Governance Analytics, Department of Veterans Affairs.

[FR Doc. 2022-21585 Filed 10-4-22; 8:45 am]

BILLING CODE 8320-01-P